SMALL BUSINESS ADMINISTRATION

[Declaration of Disaster #P040]

State of Arkansas (Amendment #1)

In accordance with a notice received from the Department of Homeland Security—Federal Emergency Management Agency, effective July 9, 2004, the above numbered declaration is hereby amended establish the incident period for this disaster as beginning May 30, 2004 and continuing through July 9, 2004.

All other information remains the same, i.e., the deadline for filing applications for physical damage is August 30, 2004.

(Catalog of Federal Domestic Assistance Program Nos. 59008).
Dated: July 13, 2004.
Herbert L. Mitchell,
Associate Administrator for Disaster Assistance.

[FR Doc. 04-16377 Filed 7-16-04; 8:45 am]

BILLING CODE 8025-01-P